DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its fiftieth meeting:

Name: National Advisory Committee on Rural Health and Human Services.

Dates and Times: June 12, 2005, 1:30 p.m.-5:15 p.m., June 13, 2005, 8:45 a.m.-5 p.m., June 14, 2005, 9 a.m.-10:45 a.m.

Place: Carnegie Hotel, 1216 W State of Franklin Road, Johnson City, TN 37604, Phone: 423-979-6400, Fax: 423-979-6424.

Status: The meeting will be open to the public.

Purpose: The National Advisory Committee on Rural Health and Human Services provides advice and recommendations to the Secretary with respect to the delivery, research, development, and administration of health and human services in rural areas.

Agenda: Sunday afternoon, June 12, at 1:30 p.m., the Chairperson, the Honorable David Beasley, will open the meeting and welcome the Committee. There will be a brief discussion of Committee business and updates by Federal staff. The first session will open with an overview of East Tennessee by Dr. Paul Stanton, President of East Tennessee State University. The remainder of the day's meeting will be devoted to panel discussions on the three topics for the 2006 workplan: Pharmacy Access, Health Information Technology (HIT), and Elderly Caregiver Support. The Sunday meeting will close at 5:15 p.m.

Monday morning, June 13, at 8:45 a.m., the Committee will break into Subcommittees and conduct site visits to local health and human services facilities. Transportation to these sites will not be provided to the general public. The Pharmacy Access Subcommittee will visit Wilson Pharmacy in Johnson City; the HIT Subcommittee will visit Central Appalachian Health Information Partnership in Mountain City; and the Elderly Caregiver Support Subcommittee will visit the Mountain Empire Older Citizens Area Agency on Aging in Big Stone Gap. The Subcommittees will reconvene at 1:45 p.m. at the Carnegie Hotel to continue discussions on the workplan. The Committee of the whole will reconvene at 4:30 p.m. for a brief discussion of the workplan. The Monday meeting will close at 5 p.m.

The final session will be convened Tuesday morning, June 14, at 9 a.m. The Committee will review the discussion of the 2006 Workplan and have updates on the Subcommittees site visits. The meeting will conclude with a discussion of the September meeting. The meeting will be adjourned at 10:45 a.m.

For Further Information Contact: Anyone requiring information regarding the Committee should contact Tom Morris, M.P.A., Executive Secretary, National Advisory Committee on Rural Health and Human Services, Health Resources and Services Administration, Parklawn Building, Room 9A-55, 5600 Fishers Lane, Rockville, MD 20857, telephone (301) 443-0835, Fax (301) 443-2803.

Persons interested in attending any portion of the meeting should contact Michele Pray-Gibson, Office of Rural Health Policy (ORHP), telephone (301) 443-0835. The Committee meeting agenda will be posted on ORHP's Web site http://www.ruralhealth.hrsa.gov.

Dated: May 13, 2005.
Tina M. Cheatham,
Director, Division of Policy Review and Coordination.

[FR Doc. 05-10098 Filed 5-19-05; 8:45 am]

BILLING CODE 4165-15-P